DEPARTMENT OF ENERGY

Federal Energy Regulatory Commission

Combined Notice of Filings #2

Take notice that the Commission received the following electric rate filings:

Docket Numbers: ER10-3145-007; ER10-3116-007; ER10-3120-007; ER11-2036-007; ER13-1544-004; ER16-930-001; ER10-3128-007; ER10-1800-008; ER10-3136-007; ER11-2701-009; ER10-1728-007.

Applicants: AES Alamitos, LLC, AES Energy Storage, LLC, AES Laurel Mountain, LLC, AES Huntington Beach, L.L.C., AES ES Tait, LLC, AES Ohio Generation, LLC, AES Redondo Beach, L.L.C., Indianapolis Power and Light Company, Mountain View Power Partners, LLC, Mountain View Power Partners IV, LLC, The Dayton Power and Light Company.

Description: Supplement to June 30, 2016 Triennial Market Power Analysis for Southwestern Region of AES MBR Affiliates.

Filed Date: 11/10/16.

Accession Number: 20161110-5238.

Comments Due: 5 p.m. ET 12/1/16.

Docket Numbers: ER15-1706-000.

Applicants: Newark Energy Center, LLC.

Description: Report Filing: Refund Report re EL15-97 et al. to be effective N/A.

Filed Date: 11/14/16.

Accession Number: 20161114-5330.

Comments Due: 5 p.m. ET 12/5/16.

Docket Numbers: ER16-1346-001.

Applicants: Midcontinent Independent System Operator, Inc.

Description: Compliance filing: 2016-11-14_SA 2911 LEPA-MISO External NRIS (J373) Compliance to be effective 4/5/2016.

Filed Date: 11/14/16.

Accession Number: 20161114-5329.

Comments Due: 5 p.m. ET 12/5/16.

Docket Numbers: ER16-1817-001.

Applicants: Midcontinent Independent System Operator, Inc.

Description: Compliance filing: 2016-11-14_Attachment X_E-NRIS Compliance Filing to be effective 4/5/2016.

Filed Date: 11/14/16.

Accession Number: 20161114-5328.

Comments Due: 5 p.m. ET 12/5/16.

Docket Numbers: ER16-2187-001.

Applicants: Midcontinent Independent System Operator, Inc.

Description: Compliance filing: 2016-11-14_Schedule 2 Rule to Show Cause Follow-Up Compliance EL16-61 to be effective 6/22/2016.

Filed Date: 11/14/16.

Accession Number: 20161114-5152.

Comments Due: 5 p.m. ET 12/5/16.

Docket Numbers: ER17-54-001.

Applicants: PacifiCorp.

Description: Tariff Amendment: EDF Trading MDUSA Rev 1 Amendment to be effective 10/4/2016.

Filed Date: 11/14/16.

Accession Number: 20161114-5219.

Comments Due: 5 p.m. ET 12/5/16.

Docket Numbers: ER17-344-000.

Applicants: Public Service Company of Colorado.

Description: § 205(d) Rate Filing: PSCo-TSGT-E&P-420-0.1.0-NOC to be effective 11/15/2016.

Filed Date: 11/14/16.

Accession Number: 20161114-5162.

Comments Due: 5 p.m. ET 12/5/16.

Docket Numbers: ER17-345-000.

Applicants: Chisholm View Wind Project, LLC.

Description: Baseline eTariff Filing: Chisholm View Wind Project, LLC Shared Facilities Agreement to be effective 11/15/2016.

Filed Date: 11/14/16.

Accession Number: 20161114-5244.

Comments Due: 5 p.m. ET 12/5/16.

Docket Numbers: ER17-346-000.

Applicants: PJM Interconnection, L.L.C.

Description: § 205(d) Rate Filing: ISA No. 4095 and CSAs, SA Nos. 4107 and 4567, Queue No. Z2-060/AA2-170 to be effective 10/13/2016.

Filed Date: 11/14/16.

Accession Number: 20161114-5295.

Comments Due: 5 p.m. ET 12/5/16.

Docket Numbers: ER17-347-000.

Applicants: PJM Interconnection, L.L.C.

Description: § 205(d) Rate Filing: Cancellation of Schedule 10—Michigan—Ontario Interface to be effective 11/14/2016.

Filed Date: 11/14/16.

Accession Number: 20161114-5312.

Comments Due: 5 p.m. ET 12/5/16.

Docket Numbers: ER17-348-000.

Applicants: ITC Midwest LLC.

Description: § 205(d) Rate Filing: Filing of a DTIA with the City of Stanhope to be effective 1/13/2017.

Filed Date: 11/14/16.

Accession Number: 20161114-5314.

Comments Due: 5 p.m. ET 12/5/16.

Docket Numbers: ER17-349-000.

Applicants: PJM Interconnection, L.L.C.

Description: § 205(d) Rate Filing: Original Designated Entity Agreement No. 4579, Projects b2743 and b2752 to be effective 11/2/2016.

Filed Date: 11/14/16.

Accession Number: 20161114-5331.

Comments Due: 5 p.m. ET 12/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2016.
Nathaniel J. Davis, Sr.,
Deputy Secretary.

[FR Doc. 2016-27755 Filed 11-17-16; 8:45 am]

BILLING CODE 6717-01-P